DEPARTMENT OF ENERGY

Western Area Power Administration

Notice of Cancellation of Environmental Impact Statement for the Proposed NextGen Project Near Selby, Walworth County, SD (DOE/EIS-0401)

AGENCY: Western Area Power Administration, DOE.

ACTION: Cancellation of Environmental Impact Statement.

SUMMARY: The U.S. Department of Energy (DOE), Western Area Power Administration (Western) is issuing this notice to advise the public that it is cancelling the preparation of an environmental impact statement (EIS) under the National Environmental Policy Act (NEPA) on an interconnection request by the Basin Electric Power Cooperative (BEPC). BEPC proposed to design, construct, operate, and maintain a 500- to 700-megawatt base load, coal-fired generation facility near Selby, Walworth County, South Dakota, and interconnect it with Western's transmission system, thus triggering a NEPA review of Western's action to allow the interconnection. BEPC has notified Western it is suspending further action on its proposed project.

FOR FURTHER INFORMATION CONTACT: For further information on the cancellation of this EIS process, contact Matt Marsh, Upper Great Plains Regional Office, Western Area Power Administration, P.O. Box 35800, Billings, MT 59107-5800, e-mail MMarsh@wapa.gov, telephone (800) 358-3415. For general information on the DOE's NEPA review process, contact Carol M. Borgstrom, Director, Office of NEPA Policy and Compliance, GC-54, U.S. Department of Energy, 1000 Independence Avenue, SW., Washington, DC 20585-0119, telephone (202) 586-4600 or (800) 472-2756, facsimile (202) 586-7031.

SUPPLEMENTARY INFORMATION: The U.S. Department of Energy (DOE), Western Area Power Administration (Western) is cancelling the preparation of an environmental impact statement (EIS) under the National Environmental Policy Act (NEPA) on an interconnection request by the Basin Electric Power Cooperative (BEPC). BEPC proposed to design, construct, operate, and maintain a 500- to 700-megawatt base load, coal-fired generation facility near Selby, Walworth County, South Dakota. BEPC's proposed NextGen Project would have been entirely owned and operated by BEPC, and would have been constructed on private land. Western received a request for interconnection from BEPC, which triggered a NEPA process on Western's proposed action to approve or deny BEPC's request to interconnect their proposed project with Western's transmission system. If the interconnection were to be approved, Western would have needed to construct and operate an interconnection facility at the point of interconnection.

A Notice of Intent to Prepare an Environmental Impact Statement was published in the Federal Register on July 27, 2007 (72 FR 41307). Public scoping meetings were held subsequent to the Notice of intent, but a Draft EIS was not produced. BEPC has notified Western that it is suspending further action on its proposed project; accordingly Western is terminating the NEPA review process on its interconnection decision.

Dated: December 10, 2010.
Timothy J. Meeks,
Administrator.

[FR Doc. 2010-32121 Filed 12-21-10; 8:45 am]

BILLING CODE 6450-01-P